DEPARTMENT OF COMMERCE

International Trade Administration

[C-533-911]

Paper File Folders From India: Postponement of Preliminary Determination

AGENCY: Enforcement and Compliance, International Trade Administration, Department of Commerce.

DATES: Applicable December 28, 2022.

FOR FURTHER INFORMATION CONTACT: Thomas Martin, AD/CVD Operations, Office IV, Enforcement and Compliance, International Trade Administration, U.S. Department of Commerce, 1401 Constitution Avenue NW, Washington, DC 20230; telephone: (202) 482-3936.

SUPPLEMENTARY INFORMATION:

Background

On October 12, 2022, the U.S. Department of Commerce (Commerce) initiated a countervailing duty (CVD) investigation of imports of paper file folders from India.¹ Currently, the preliminary determination is due no later than January 5, 2023.

¹ See Paper File Folders from India: Initiation of Countervailing Duty Investigation, 87 FR 67447 (November 8, 2022).

Postponement of Preliminary Determination

Section 703(b)(1) of the Tariff Act of 1930, as amended (the Act), requires Commerce to issue the preliminary determination in a CVD investigation within 65 days after the date on which Commerce initiated the investigation. However, section 703(c)(1) of the Act permits Commerce to postpone the preliminary determination until no later than 130 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny it.

On December 9, 2022, the Coalition of Domestic Folder Manufacturers (the petitioner) timely filed a request for Commerce to postpone the preliminary CVD determination so that Commerce may review all questionnaire responses and new factual information to permit a thorough investigation and the calculation of accurate subsidy rates.²

² See Petitioner's Letter, “Paper File Folders from India—Petitioner's Request For Extension of Preliminary Determination Deadline,” dated December 9, 2022. The petitioner is the Coalition of Domestic Folder Manufacturers, the members of which are Smead Manufacturing Company, Inc. and TOPS Products LLC.

In accordance with 19 CFR 351.205(e), the petitioner has stated the reasons for requesting a postponement of the preliminary determination, and Commerce finds no compelling reason to deny the request. Therefore, in accordance with section 703(c)(1)(A) of the Act, Commerce is postponing the deadline for the preliminary determination to no later than the next business day after 130 days after the date on which this investigation was initiated, i.e., March 13, 2023.³ Pursuant to section 705(a)(1) of the Act and 19 CFR 351.210(b)(1), the deadline for the final determination of this investigation will continue to be 75 days after the date of the preliminary determination.

³ The extended date for the preliminary determination falls on March 11, 2023, which is a Saturday. Commerce's practice dictates that, when a deadline falls on a weekend or federal holiday, the appropriate deadline is the next business day. See Notice of Clarification: Application of “Next Business Day” Rule for Administrative Determination Deadlines Pursuant to the Tariff Act of 1930, As Amended, 70 FR 24533 (May 10, 2005).

Notification to Interested Parties

This notice is issued and published pursuant to section 703(c)(2) of the Act and 19 CFR 351.205(f)(1).

Dated: December 21, 2022.
Lisa W. Wang,
Assistant Secretary for Enforcement and Compliance.

[FR Doc. 2022-28274 Filed 12-27-22; 8:45 am]

BILLING CODE 3510-DS-P